DEPARTMENT OF ENERGY

Federal Energy Regulatory Commission

Combined Notice of Filings

Take notice that the Commission has received the following Natural Gas Pipeline Rate and Refund Report filings:

Filings Instituting Proceedings

Docket Numbers: AC25-42-000.

Applicants: Arrowhead Gulf Coast Pipeline, LLC.

Description: Arrowhead Gulf Coast Pipeline, LLC submits supplemental proposed journal entry for contribution accounting recorded to debit Account 30 and credit Account 73 re acquisition of VP North Pipeline System from Phillips 66 Pipeline LLC.

Filed Date: 2/3/25.

Accession Number: 20250203-5212.

Comment Date: 5 p.m. ET 2/24/25.

Docket Numbers: PR25-33-000.

Applicants: Colt Pipelines (North Texas) L.P.

Description: § 284.123(g) Rate Filing: Cost Based Rate 2025 to be effective 2/1/2025.

Filed Date: 2/3/25.

Accession Number: 20250203-5126.

Comment Date: 5 p.m. ET 2/24/25.

§ 284.123(g) Protest: 5 p.m. ET 4/4/25.

Docket Numbers: PR25-34-000.

Applicants: Acadian Gas Pipeline System.

Description: § 284.123 Rate Filing: Petition for Rate Approval 2025 to be effective 3/1/2025.

Filed Date: 2/3/25.

Accession Number: 20250203-5217.

Comment Date: 5 p.m. ET 2/24/25.

Docket Numbers: RP25-520-000.

Applicants: Spire STL Pipeline LLC.

Description: Compliance filing: Spire STL NAESB 4.0 Compliance Filing to be effective 8/1/2025.

Filed Date: 2/3/25.

Accession Number: 20250203-5155.

Comment Date: 5 p.m. ET 2/18/25.

Docket Numbers: RP25-521-000.

Applicants: Colorado Interstate Gas Company, L.L.C.

Description: Compliance filing: Order No. 587-AA Compliance Filing to be effective 8/1/2025.

Filed Date: 2/3/25.

Accession Number: 20250203-5157.

Comment Date: 5 p.m. ET 2/18/25.

Docket Numbers: RP25-522-000.

Applicants: Wyckoff Gas Storage Company, LLC.

Description: Compliance filing: Order No. 587-AA Compliance Filing to be effective 8/1/2025.

Filed Date: 2/3/25.

Accession Number: 20250203-5158.

Comment Date: 5 p.m. ET 2/18/25.

Docket Numbers: RP25-523-000.

Applicants: Cheyenne Connector, LLC.

Description: Compliance filing: CC 2025-02-03 NAESB 4.0 Filing to be effective 8/1/2025.

Filed Date: 2/3/25.

Accession Number: 20250203-5159.

Comment Date: 5 p.m. ET 2/18/25.

Docket Numbers: RP25-524-000.

Applicants: East Cheyenne Gas Storage, LLC.

Description: Compliance filing: ECGS 2025-02-03 NAESB 4.0 Filing to be effective 8/1/2025.

Filed Date: 2/3/25.

Accession Number: 20250203-5162.

Comment Date: 5 p.m. ET 2/18/25.

Docket Numbers: RP25-525-000.

Applicants: Rockies Express Pipeline LLC.

Description: Compliance filing: REX 2025-02-03 NAESB 4.0 Filing to be effective 8/1/2025.

Filed Date: 2/3/25.

Accession Number: 20250203-5163.

Comment Date: 5 p.m. ET 2/18/25.

Docket Numbers: RP25-526-000.

Applicants: Ruby Pipeline, L.L.C.

Description: Compliance filing: RP 2025-02-03 NAESB 4.0 Filing to be effective 8/1/2025.

Filed Date: 2/3/25.

Accession Number: 20250203-5165.

Comment Date: 5 p.m. ET 2/18/25.

Docket Numbers: RP25-527-000.

Applicants: Tallgrass Interstate Gas Transmission, LLC.

Description: Compliance filing: TIGT 2025-02-03 NAESB 4.0 Filing to be effective 8/1/2025.

Filed Date: 2/3/25.

Accession Number: 20250203-5167.

Comment Date: 5 p.m. ET 2/18/25.

Docket Numbers: RP25-528-000.

Applicants: Trailblazer Pipeline Company LLC.

Description: Compliance filing: TPC 2025-02-03 NAESB 4.0 Filing to be effective 8/1/2025.

Filed Date: 2/3/25.

Accession Number: 20250203-5175.

Comment Date: 5 p.m. ET 2/18/25.

Docket Numbers: RP25-529-000.

Applicants: Alliance Pipeline L.P.

Description: Compliance filing: NAESB 4.0—2025-02-03 to be effective 8/1/2025.

Filed Date: 2/3/25.

Accession Number: 20250203-5178.

Comment Date: 5 p.m. ET 2/18/25.

Docket Numbers: RP25-530-000.

Applicants: TransColorado Gas Transmission Company LLC.

Description: Compliance filing: Order No. 587-AA Compliance Filing to be effective 8/1/2025.

Filed Date: 2/3/25.

Accession Number: 20250203-5181.

Comment Date: 5 p.m. ET 2/18/25.

Docket Numbers: RP25-531-000.

Applicants: Carlsbad Gateway, LLC.

Description: Compliance filing: Carlsbad Gateway NAESB 4.0 Compliance Filing to be effective 8/1/2025.

Filed Date: 2/3/25.

Accession Number: 20250203-5182.

Comment Date: 5 p.m. ET 2/18/25.

Docket Numbers: RP25-532-000.

Applicants: Sierrita Gas Pipeline LLC.

Description: Compliance filing: Order No. 587-AA Compliance Filing to be effective 8/1/2025.

Filed Date: 2/3/25.

Accession Number: 20250203-5183.

Comment Date: 5 p.m. ET 2/18/25.

Docket Numbers: RP25-533-000.

Applicants: Mojave Pipeline Company, L.L.C.

Description: Compliance filing: Order No. 587-AA Compliance Filing to be effective 8/1/2025.

Filed Date: 2/3/25.

Accession Number: 20250203-5184.

Comment Date: 5 p.m. ET 2/18/25.

Docket Numbers: RP25-534-000.

Applicants: El Paso Natural Gas Company, L.L.C.

Description: Compliance filing: Order No. 587-AA Compliance Filing to be effective 8/1/2025.

Filed Date: 2/3/25.

Accession Number: 20250203-5189.

Comment Date: 5 p.m. ET 2/18/25.

Docket Numbers: RP25-535-000.

Applicants: Roaring Fork Interstate Gas Transmission, LLC.

Description: Compliance filing: Revised Tariff Records Under Order 587-AA to be effective 8/1/2025.

Filed Date: 2/3/25.

Accession Number: 20250203-5190.

Comment Date: 5 p.m. ET 2/18/25.

Docket Numbers: RP25-536-000.

Applicants: Leaf River Energy Center LLC.

Description: Compliance filing: Leaf River NAESB 4.0 Compliance Filing to be effective 8/1/2025.

Filed Date: 2/3/25.

Accession Number: 20250203-5196.

Comment Date: 5 p.m. ET 2/18/25.

Docket Numbers: RP25-537-000.

Applicants: Spire MoGas Pipeline LLC.

Description: Compliance filing: Spire MoGas NAESB 4.0 Compliance Filing to be effective 8/1/2025.

Filed Date: 2/3/25.

Accession Number: 20250203-5203.

Comment Date: 5 p.m. ET 2/18/25.

Docket Numbers: RP25-538-000.

Applicants: Texas Gas Transmission, LLC.

Description: Compliance filing: NAESB Order 587-AA Compliance Filing to be effective 8/1/2025.

Filed Date: 2/3/25.

Accession Number: 20250203-5210.

Comment Date: 5 p.m. ET 2/18/25.

Docket Numbers: RP25-539-000.

Applicants: Gulf South Pipeline Company, LLC.

Description: Compliance filing: NAESB Order 587-AA Compliance Filing to be effective 8/1/2025.

Filed Date: 2/3/25.

Accession Number: 20250203-5215.

Comment Date: 5 p.m. ET 2/18/25.

Docket Numbers: RP25-540-000.

Applicants: Equitrans, L.P.

Description: § 4(d) Rate Filing: Negotiated Rate Capacity Release Agreements 02-01-2025 to be effective 2/1/2025.

Filed Date: 2/3/25.

Accession Number: 20250203-5221.

Comment Date: 5 p.m. ET 2/18/25.

Docket Numbers: RP25-541-000.

Applicants: Boardwalk Storage Company, LLC.

Description: Compliance filing: NAESB Order 587-AA Compliance Filing to be effective 8/1/2025.

Filed Date: 2/3/25.

Accession Number: 20250203-5229.

Comment Date: 5 p.m. ET 2/18/25.

Docket Numbers: RP25-542-000.

Applicants: Black Marlin Pipeline LLC.

Description: Compliance filing: Petition for Temporary Exemption from Tariff Revision Filing to be effective N/A.

Filed Date: 2/3/25.

Accession Number: 20250203-5233.

Comment Date: 5 p.m. ET 2/18/25.

Docket Numbers: RP25-543-000.

Applicants: Discovery Gas Transmission LLC.

Description: Compliance filing: NAESB 4.0 Compliance to be effective 8/1/2025.

Filed Date: 2/3/25.

Accession Number: 20250203-5235.

Comment Date: 5 p.m. ET 2/18/25.

Docket Numbers: RP25-544-000.

Applicants: Bluewater Gas Storage, LLC.

Description: Compliance filing: Order No. 587-AA Compliance Filing to be effective 8/1/2025.

Filed Date: 2/3/25.

Accession Number: 20250203-5238.

Comment Date: 5 p.m. ET 2/18/25.

Docket Numbers: RP25-545-000.

Applicants: Tennessee Gas Pipeline Company, L.L.C.

Description: Compliance filing: NAESB 4.0 Compliance Filing to be effective 8/1/2025.

Filed Date: 2/3/25.

Accession Number: 20250203-5240.

Comment Date: 5 p.m. ET 2/18/25.

Docket Numbers: RP25-546-000.

Applicants: Stagecoach Pipeline & Storage Company LLC.

Description: Compliance filing: NAESB 4.0 Compliance Filing to be effective 8/1/2025.

Filed Date: 2/3/25.

Accession Number: 20250203-5245.

Comment Date: 5 p.m. ET 2/18/25.

Docket Numbers: RP25-547-000.

Applicants: Dauphin Island Gathering Partners.

Description: Compliance filing: NAESB 4.0 Compliance to be effective 8/1/2025.

Filed Date: 2/3/25.

Accession Number: 20250203-5248.

Comment Date: 5 p.m. ET 2/18/25.

Docket Numbers: RP25-548-000.

Applicants: Arlington Storage Company, LLC.

Description: Compliance filing: NAESB 4.0 Compliance Filing to be effective 8/1/2025.

Filed Date: 2/3/25.

Accession Number: 20250203-5250.

Comment Date: 5 p.m. ET 2/18/25.

Docket Numbers: RP25-549-000.

Applicants: Kinder Morgan Louisiana Pipeline LLC.

Description: Compliance filing: NAESB 4.0 Compliance Filing to be effective 8/1/2025.

Filed Date: 2/3/25.

Accession Number: 20250203-5253.

Comment Date: 5 p.m. ET 2/18/25.

Docket Numbers: RP25-550-000.

Applicants: Eastern Shore Natural Gas Company.

Description: Compliance filing: NAESB Order 587-AA Compliance to be effective 8/1/2025.

Filed Date: 2/3/25.

Accession Number: 20250203-5263.

Comment Date: 5 p.m. ET 2/18/25.

Docket Numbers: RP25-551-000.

Applicants: Double E Pipeline, LLC.

Description: Compliance filing: Order No. 587-AA Filing, NAESB Version 4.0 to be effective 8/1/2025.

Filed Date: 2/3/25.

Accession Number: 20250203-5274.

Comment Date: 5 p.m. ET 2/18/25.

Docket Numbers: RP25-552-000.

Applicants: Natural Gas Pipeline Company of America LLC.

Description: § 4(d) Rate Filing: Negotiated Rate Agreement-Constellation Energy Generation, LLC to be effective 2/1/2025.

Filed Date: 2/3/25.

Accession Number: 20250203-5282.

Comment Date: 5 p.m. ET 2/18/25.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, local communities, Tribal members and others, access publicly available information and navigate Commission processes. For public inquiries and assistance with making filings such as interventions, comments, or requests for rehearing, the public is encouraged to contact OPP at (202) 502-6595 or OPP@ferc.gov.

Dated: February 4, 2025.
Carlos D. Clay,
Deputy Secretary.

[FR Doc. 2025-02438 Filed 2-10-25; 8:45 am]

BILLING CODE 6717-01-P